FEDERAL ACCOUNTING STANDARDS ADVISORY BOARD

Notice of Request for Candidates To Serve as a Non-Federal Member of the Federal Accounting Standards Advisory Board

AGENCY: Federal Accounting Standards Advisory Board.

ACTION: Notice.

SUMMARY: Notice is hereby given that the Federal Accounting Standards Advisory Board (FASAB) is currently seeking candidates (candidates must not currently be Federal employees) to serve as a non-Federal member of FASAB. FASAB is the body designated to establish generally accepted accounting principles for Federal Government entities. Generally, non-Federal Board members are selected from the general financial community, the accounting and auditing community, or the academic community. The Board generally meets for two days every other month in Washington, DC. Members are compensated for 24 days per year based on current Federal executive salaries. Travel expenses are reimbursed in accordance with federal travel regulations.

DATES: Please submit your resume by August 27, 2023.

ADDRESSES: Responses may be sent to fasab@fasab.gov or Ms. Monica R. Valentine, Executive Director, 441 G Street NW, Suite 1155, Washington, DC 20548.

FOR FURTHER INFORMATION CONTACT: Ms. Monica R. Valentine, Executive Director, 441 G Street NW, Suite 1155, Washington, DC 20548, or call (202) 512-7350.

Authority: 31 U.S.C. 3511(d); Federal Advisory Committee Act, 5 U.S.C. 1001-1014.

Dated: June 22, 2023.
Monica R. Valentine,
Executive Director.

[FR Doc. 2023-13669 Filed 6-27-23; 8:45 am]

BILLING CODE 1610-02-P